DEPARTMENT OF COMMERCE

National Oceanic and Atmospheric Administration

RIN 0648-XC40

Marine Mammals; File No. 1079-1828

AGENCY: National Marine Fisheries Service (NMFS), National Oceanic and Atmospheric Administration (NOAA), Commerce.

ACTION: Notice; withdrawal of application.

SUMMARY: Notice is hereby given that an application, submitted by Peter Scheifele, University of Connecticut, 3636 Horsebarn Hill Road, Unit 4040, Storrs, Connecticut 06269, to conduct research on cetaceans and pinnipeds has been withdrawn.

ADDRESSES: The documents related to this action are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Jaclyn Daly or Amy Sloan, (301)713-2289.

SUPPLEMENTARY INFORMATION: On July 5, 2006, a notice was published in the Federal Register (71 FR 38136) that an application for a scientific research permit had been filed by Peter Scheifele, University of Connecticut.

The applicant had requested authorization to conduct acoustic studies on cetaceans and pinnipeds being rehabilitated at the Mystic Aquarium, Connecticut. However, the applicant has failed to provide additional information and clarification, as requested by NMFS, regarding the proposed activities within 60 days. Pursuant to Federal Regulations (50 CFR 216.33(4)), the application has been withdrawn.

Dated: October 26, 2007.
P. Michael Payne,
Chief, Permits, Conservation and Education Division, Office of Protected Resources, National Marine Fisheries Service.

[FR Doc. E7-21553 Filed 10-31-07; 8:45 am]

BILLING CODE 3510-22-S